DEPARTMENT OF COMMERCE

International Trade Administration

[A-351-832, A-122-840, A-560-815, A-201-830, A-841-805, A-274-804, A823-812, C-351-833, and C-122-841]

Carbon and Certain Alloy Steel Wire Rod from Brazil, Canada, Indonesia, Mexico, Moldova, Trinidad and Tobago, and Ukraine: Initiation of Changed Circumstances Antidumping Duty Administrative Review and Countervailing Duty Administrative Reviews, and Intent To Revoke Orders in Part

AGENCY: Import Administration, International Trade Administration, Department of Commerce.

ACTION: Notice of Initiation of Changed Circumstances Review of the Antidumping Duty and Countervailing Duty Orders, and Intent To Revoke Orders in Part.

SUMMARY: On July 24, 2003, in accordance with 19 CFR 351.216(b), petitioners¹ in the antidumping duty and countervailing duty proceedings on carbon and certain alloy steel wire rod (wire rod) filed a request for a changed circumstances antidumping administrative review on the antidumping duty orders on steel wire rod from Brazil, Canada, Indonesia, Mexico, Moldova, Trinidad and Tobago, and Ukraine and countervailing duty orders on steel wire rod from Brazil and Canada. This changed circumstances review concerns certain grade 1080 tire cord quality wire rod and certain grade 1080 tire bead quality wire rod. These products were excluded from the original scope of these antidumping and countervailing duty orders; however, petitioners are requesting a further clarification of the technical description of these products. See the “Scope of the Changed Circumstances Review,” below.

¹ Petitioners are Georgetown Steel Company (formerly GS Industries), North Star Steel Texas, Gerdau Ameristeel (formerly Co-Steel Raritan), and Keystone Consolidated Industries.

In response to petitioners' request, the Department of Commerce (the Department) is initiating a changed circumstances review with respect to the specific grade 1080 tire cord quality wire rod and tire bead quality wire rod products specified in this notice. Interested parties are invited to comment on this notice of initiation.

EFFECTIVE DATE: August 21, 2003.

FOR FURTHER INFORMATION CONTACT: Brian J. Sheba, Import Administration, International Trade Administration, U.S. Department of Commerce, 14th Street and Constitution Avenue, N.W., Washington, D.C. 20230; telephone: (202) 482-0145.

SUPPLEMENTARY INFORMATION:

Background

The Department published the antidumping duty orders on steel wire rod from Brazil, Canada, Indonesia, Mexico, Moldova, Trinidad and Tobago, and Ukraine on October 29, 2002. See Notice of Antidumping Duty Orders: Carbon and Certain Alloy Steel Wire Rod From Brazil, Indonesia, Mexico, Moldova, Trinidad and Tobago, and Ukraine, 67 Fed. Reg. 65,945, and Notice of Amended Final Determination of Sales at Less Than Fair Value and Antidumping Duty Order: Carbon and Alloy Steel Wire Rod From Canada, 67 Fed. Reg. 65,944. The Department published the countervailing duty orders on steel wire rod from Brazil, and Canada on October 22, 2002. See Notice of Countervailing Duty Orders: Carbon and Certain Alloy Steel Wire Rod From Brazil and Canada, 67 Fed. Reg. 64,871. On July 24, 2003, petitioners requested that the Department change the technical description of certain grade 1080 tire cord quality wire rod and grade 1080 tire bead quality wire rod (hereafter, tire cord wire rod). This request arises, petitioners aver, because the original definition of the excluded tire cord wire rod was drawn too narrowly and, thus, captures within the scope certain products petitioners no longer wish to have subject to the orders. Acceding to petitioners' request would, petitioners maintain, “exclude a larger quantity of grade 1080 tire cord and grade 1080 tire bead wire rod from the scope of the antidumping and countervailing duty orders.” Letter from Collier, Shannon, Scott, dated July 24, 2003, at 2. According to petitioners, good cause to initiate this review, as required by 19 CFR 351.216(c), “exists in this case because the petitioners no longer wish products subject to the proposed scope language” to be covered by the orders.²

² Petitioners suggest any final affirmative changed circumstances determination, excluding the additional tire cord wire rod products, be effective retroactively to the date of their request, or July 24, 2003.

Petitioners believe that they continue to represent more than 50 percent of total production of the domestic like product in the United States, but do not allege they represent more than 85 percent of the production of the domestic like product and therefore do not represent “substantially all” of the production of the domestic like product. See 19 C.F.R. 351.222(g)(1)(i). Letter from Collier, Shannon, Scott, dated August 6, 2003 , at 2. Petitioners, however, also believe they represent substantially all domestic production of grade 1080 tire cord and tire bead quality wire rod that is the subject of this request for review. Petitioners claim Georgetown Steel and North Star Steel Texas are the only known domestic producers of such steel and have no reason to believe that any domestic producer of wire rod will have reason to object to its request. Id. at 2.

At present, the Department has no information on the record that the other known domestic producers of wire rod have no interest in maintaining the antidumping duty order with respect to the domestic like product or the certain specific grade of 1080 tire cord and tire bead quality described below. In particular, the Department does not have information on the record of this changed circumstances review that the petitioners do indeed account for substantially all, or at least 85 percent, of the production of the domestic like product. Accordingly, we are not combining this initiation with a preliminary determination, pursuant to 351.221(c)(3)(ii). This notice of initiation will accord all interested parties an opportunity to address this proposed exclusion.

Scope of the Order

The merchandise covered by these orders is certain hot-rolled products of carbon steel and alloy steel, in coils, of approximately round cross section, 5.00 mm or more, but less than 19.00 mm, in solid cross-sectional diameter.

Specifically excluded are steel products possessing the above-noted physical characteristics and meeting the Harmonized Tariff Schedule of the United States (HTSUS) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under investigation are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Scope of Changed Circumstances Review

The products subject to this changed circumstances antidumping duty and countervailing duty administrative review are certain grade 1080 tire cord steel wire rod and grade 1080 tire bead steel wire rod. Point (iii) of the existing definition of these products reads: “having no inclusions greater than 20 microns.” Petitioners suggest amending this to read “having no non-deformable inclusions greater than 20 microns and no deformable inclusions greater than 35 microns.” Petitioners' Request at 5 (emphases in original).

Petitioners would then insert an explanatory paragraph after the existing definition of tire cord wire rod reading:

For purposes of the grade 1080 tire cord quality wire rod and the grade 1080 tire bead quality wire rod, an inclusion will be considered to be deformable if its ratio of length (measured along the axis - that is, the direction of rolling - of the rod) over thickness (measured on the same inclusion in a direction perpendicular to the axis of the rod) is equal to or greater than three. The size of an inclusion for purposes of the 20 microns and 35 microns limitations is the measurement of the largest dimension observed on a longitudinal section measured in a direction perpendicular to the axis of the rod.

Letter from Collier, Shannon, Scott, dated August 6, 2003 , at 6; original emphasis deleted.

Initiation of Changed Circumstances Antidumping Duty Administrative Review

Pursuant to sections 751(d) and 782(h)(2) of the Tariff Act, the Department may revoke an antidumping or countervailing duty order, in whole or in part, based on a review under section 751(b) of the Tariff Act (i.e., a changed circumstances review) where the Department determines that producers accounting for substantially all of the production of that domestic like product have expressed a lack of interest in continuance of an order. Section 751(b)(1) of the Tariff Act requires a changed circumstances review to be conducted upon receipt of a request which shows changed circumstances sufficient to warrant a review. See, e.g., Certain Corrosion-Resistant Carbon Steel Flat Products From Japan: Notice of Final Results of Changed Circumstances Review, and Revocation in Part of Antidumping Duty Order, 68 Fed. Reg. 19,970 (April 23, 2003).

In accordance with sections 751(d)(1) and 782(h)(2) of the Tariff Act, and 19 CFR 351.216 and 351.222(g) of the Department's regulations, domestic producers of the like product, Georgetown Steel Company, North Star Steel Texas, Gerdau Ameristeel , and Keystone Consolidated Industries, claim changed circumstances exist and have made affirmative statements that no further interest exists in continuing the order with respect to the specific grade 1080 tire cord and tire bead quality steel wire rod described above. Petitioners further allege they represent more than 50 percent of the total production of the domestic like product and greater than 85 percent of the specific type of merchandise subject to this changed circumstances review. Based upon the statements of no interest by the petitioners, we are initiating this changed circumstances administrative review.

If, as a result of this review, we revoke the order, in part, we intend to instruct the Bureau of Customs and Border Protection (Customs) to liquidate without regard to antidumping duties, as applicable, and to refund any estimated antidumping duties collected for all unliquidated entries of the tire cord wire rod products meeting the specifications indicated above, as of July 24, 2003, the date this changed circumstances review request was filed by Petitioners, in accordance with 19 CFR 351.222(g)(4). We will also instruct Customs to pay interest on such refunds in accordance with section 778 of the Tariff Act. The current requirement for a cash deposit of estimated antidumping duties on certain tire cord wire rod products meeting the specifications set forth above will continue unless and until we publish a final determination to revoke in part.

Public Comment

Interested parties are invited to comment on the initiation of this changed circumstances review. Parties who submit argument in this proceeding are requested to submit with the argument (i) a statement of the issue, and (ii) a brief summary of the argument. All written comments may be submitted by interested parties not later than 14 days after the date of publication of this notice in accordance with 19 CFR 351.303, with the exception that only three (3) copies need be served on the Department, and shall be served on all interested parties on the Department's service list in accordance with 19 CFR 351.303.

The Department will publish in the Federal Register a notice of preliminary result of changed circumstances review, in accordance with 19 CFR 351.221(c), which will set forth the factual and legal conclusions upon which our preliminary results are based, and a description of any action proposed based on those results. Interested parties may submit comments for consideration in the Department's preliminary results not later than 14 days after publication of this notice. Responses to those comments may be submitted not later than five days following submission of the comments. All written comments must be submitted in accordance with 19 CFR 351.303, with the exception that only three (3) copies need be served on the Department, and must be served on all interested parties on the Department's service list in accordance with 19 CFR 351.303.

The Department intends to publish in the Federal Register the final results of this changed circumstances review, including the results of its analysis of issues raised in any written comments, no later than 270 days after the date of publication of this notice, or within 45 days if all parties to the proceeding agree to the outcome of this review. See 19 CFR 351.216(e).

This notice is published in accordance with section 751(b)(1) of the Tariff Act and 19 CFR 351.216 and 351.222.

Dated: August 14, 2003.
James J. Jochum,
Assistant Secretary for Import Administration.

[FR Doc. 03-21445 Filed 8-20-03; 8:45 am]

BILLING CODE 3510-DS-S